DEPARTMENT OF THE TREASURY

Office of Foreign Assets Control

Sanctions Actions Pursuant to Executive Orders 13382 and 13551

AGENCY: Office of Foreign Assets Control, Department of the Treasury.

ACTION: Notice.

SUMMARY: The Treasury Department's Office of Foreign Assets Control (OFAC) is publishing the names of (1) six individuals and one entity whose property and interests in property are blocked pursuant to Executive Order (E.O.) 13382, “Blocking Property of Weapons of Mass Destruction Proliferators and Their Supporters;” and (2) three entities whose property and interests in property are blocked pursuant to E.O. 13551, “Blocking Property of Certain Persons With Respect to North Korea.”

DATES: OFAC's actions described in this notice are effective December 8, 2015.

FOR FURTHER INFORMATION CONTACT: The Department of the Treasury's Office of Foreign Assets Control: Assistant Director for Licensing, tel.: 202-622-2480, Assistant Director for Regulatory Affairs, tel.: 202/622-4855, Assistant Director for Sanctions Compliance & Evaluation, tel.: 202/622-2490, or the Department of the Treasury's Office of the Chief Counsel (Foreign Assets Control), Office of the General Counsel, tel.: 202/622-2410.

SUPPLEMENTARY INFORMATION:

Electronic and Facsimile Availability

The Specially Designated Nationals and Blocked Persons List and additional information concerning OFAC sanctions programs are available on OFAC's Web site (www.treasury.gov/ofac). Certain general information pertaining to OFAC's sanctions programs is also available via facsimile through a 24-hour fax-on-demand service, tel.: 202/622-0077.

Notice of OFAC Actions

On December 8, 2015, OFAC blocked the property and interests in property of the following six individuals and one entity pursuant to E.O. 13382, “Blocking Property of Weapons of Mass Destruction Proliferators and Their Supporters”:

Individuals

1. KIM, Kyong Nam (a.k.a. KIM, Kyo'ng-Nam), Russia; DOB 11 Jul 1976; nationality Korea, North; Foreign Trade Bank of the Democratic People's Republic of Korea Representative in Russia (individual) [NPWMD] (Linked To: FOREIGN TRADE BANK OF THE DEMOCRATIC PEOPLE'S REPUBLIC OF KOREA).

2. CHOE, Song Il, Vietnam; DOB 08 Jun 1973; citizen Korea, North; Passport 472320665 (Korea, North) expires 26 Sep 2017; alt. Passport 563120356 (Korea, North) issued 19 Mar 2018; Tanchon Commercial Bank Representaotive in Vietnam (individual) [NPWMD] (Linked To: TANCHON COMMERCIAL BANK).

3. JANG, Bom Su (a.k.a. JANG, Pom Su), Syria; DOB 15 Apr 1957; citizen Korea, North; Tanchon Commercial Bank Representative in Syria (individual) [NPWMD] (Linked To: TANCHON COMMERCIAL BANK).

4. JON, Myong Guk (a.k.a. CHO'N, Myo'ng-kuk), Syria; DOB 18 Oct 1976; Passport 4721202031 (Korea, North) expires 21 Feb 2017; Tanchon Commercial Bank Representative in Syria (individual) [NPWMD] (Linked To: TANCHON COMMERCIAL BANK).

5. KIM, Jung Jong (a.k.a. KIM, Chung Chong), Vietnam; DOB 07 Nov 1966; Passport 199421147 (Korea, North) expires 29 Dec 2014; alt. Passport 381110042 (Korea, North) expires 25 Jan 2016; alt. Passport 563210184 (Korea, North) expires 18 Jun 2018; Tanchon Commercial Bank Representative in Vietnam (individual) [NPWMD] (Linked To: TANCHON COMMERCIAL BANK).

6. KO, Tae Hun (a.k.a. KIM, Myong Gi); DOB 25 May 1972; Passport 563120630 (Korea, North) expires 20 Mar 2018; Tanchon Commercial Bank Representative (individual) [NPWMD] (Linked To: TANCHON COMMERCIAL BANK).

Entity

1. STRATEGIC ROCKET FORCE OF THE KOREAN PEOPLE'S ARMY (a.k.a. STRATEGIC ROCKET FORCE; a.k.a. THE STRATEGIC ROCKET FORCE COMMAND OF KPA; a.k.a. “STRATEGIC FORCE”; a.k.a. “STRATEGIC FORCES”), Pyongyang, Korea, North [NPWMD].

In addition, on December 8, 2015, OFAC blocked the property and interests in property of the following three entities pursuant to E.O. 13551, “Blocking Property of Certain Persons With Respect to North Korea”:

Entities

1. HAEJIN SHIP MANAGEMENT COMPANY LIMITED, Tonghung-dong, Chung-guyok, Pyongyang, Korea, North; Tonghung-dong, Central District, Pyongyang, Korea, North; Email Address haejinsm@silibank.net.kp; Identification Number IMO 5814866 [DPRK].

2. PYONGJIN SHIP MANAGEMENT COMPANY LIMITED, Ryukkyo 1-dong, Pyongchon-guyok, Pyongyang, Korea, North; 102 Ryuggyo 1-dong, Pyongchon District, Pyongyang, Korea, North; Identification Number IMO 5817790 [DPRK].

3. YONGJIN SHIP MANAGEMENT COMPANY LIMITED, Tonghung-dong, Chung-guyok, Pyongyang, Korea, North; Tonghung-dong, Central District, Korea, North; Email Address yonmgjinsm@silibank.net.kp; Identification Number IMO 5814883; alt. Identification Number IMO 5814906; alt. Identification Number IMO 5820255 [DPRK].

Dated: December 8, 2015.
John E. Smith,
Acting Director, Office of Foreign Assets Control.

[FR Doc. 2016-06493 Filed 3-22-16; 8:45 am]

BILLING CODE 4810-AL-P